DEPARTMENT OF TRANSPORTATION

Federal Railroad Administration

Tier One Environmental Impact Statement for the Rochester, Minnesota to Twin Cities, Minnesota Passenger Rail Corridor

AGENCY: Federal Railroad Administration (FRA), U.S. Department of Transportation (DOT).

ACTION: Notice of Intent to prepare an Environmental Impact Statement (EIS).

SUMMARY: FRA is issuing this notice to advise the public that FRA, the Olmsted County (Minnesota) Regional Railroad Authority (OCRRA), and the Minnesota Department of Transportation (MnDOT) will jointly prepare a Tier One Environmental Impact Statement (EIS) to evaluate potential passenger rail alternatives for the Rochester, Minnesota to Twin Cities, Minnesota Passenger Rail Corridor (the Corridor) in Olmsted, Dodge, Goodhue, Rice, Dakota, Ramsey, and Hennepin Counties in compliance with the National Environmental Policy Act of 1969 (NEPA).

The Tier One EIS will analyze environmental impacts for reasonable corridor-level passenger rail route alternatives between Rochester and the Twin Cities. The Tier One EIS will also examine passenger rail service levels, including variations in train frequency, and trip time.

FRA is issuing this Notice to invite interested parties, including the public and resource agencies, to comment about the proposed scope of the EIS; to provide information on the nature of the proposed action, including the purpose and need for the proposed action; and to invite public participation in the Tier One EIS process.

DATES: OCRRA and MnDOT will host a series of public scoping meetings beginning in Spring 2013. These meetings will occur at various locations within the Corridor and will be advertised through the project Web site, direct mailings, and press releases.

FOR FURTHER INFORMATION CONTACT: Colleen Vaughn, Environmental Protection Specialist, Office of Railroad Policy and Development, Federal Railroad Administration, 1200 New Jersey Avenue SE., (Mail Stop 20), Washington, DC 20590, Phone: (202) 493-6096; or Dan Krom, Minnesota Department of Transportation, Passenger Rail Office, 395 John Ireland Boulevard, MS 480, St. Paul, MN 55155, Phone: (651) 366-3193. In addition, a project Web site has been established (www.goziprail.org), and is available to provide project related information to the general public.

SUPPLEMENTARY INFORMATION: The FRA, in cooperation with OCRRA and MnDOT, will prepare a Tier One EIS to evaluate passenger rail service improvements from Rochester, Minnesota to Twin Cities, Minnesota. The agencies will use a tiered process, as provided for in 40 CFR 1508.28 and in accordance with FRA's Procedures for Considering Environmental Impacts (64 FR 28546) (Environmental Procedures), in the completion of the environmental review. Tiering is a staged environmental review process applied to environmental reviews for complex projects. The proposed Tier One EIS described in this Notice is a service level analysis that will examine a range of reasonable corridor route alternatives between Rochester, Minnesota and Twin Cities, Minnesota. It is anticipated that the route alternative analysis will involve a screening process to identify reasonable and feasible alternatives for evaluation in the Tier One EIS. The study has recently begun to identify conceptual alternatives for consideration. Alternatives under preliminary consideration will include an alignment of the Trunk Highway 52 corridor from Rochester to the Twin Cities; an alternative running west from Rochester and then north in the vicinity of Trunk Highway 56; and multiple alignments in both the Rochester and the Twin Cities metro areas depending on the termini identified at both ends of the corridor. Alternatives will be analyzed and made available for public comment as they are refined and more precise information can be provided. The No-Action (or No-Build) Alternative will also be considered.

The Tier One EIS will also appropriately address Section 106 of the National Historic Preservation Act (see 36 CFR part 800), Section 4(f) of the U.S. Department of Transportation Act of 1966 (49 U.S.C. 303) and other applicable Federal and state laws and regulations. The Tier One NEPA document addresses broad overall issues of concern for corridor decisions including, but not limited to:

• Describing the purpose and need for the proposed action.

• Describing the study area appropriate to assess reasonable alternatives.

• Describing the environment potentially affected by the proposed action.

• Developing evaluation criteria to identify route alternatives that meet the purpose and need of the proposed action and those that do not.

• Identifying the range of reasonable route alternatives that satisfy the purpose and need for the proposed action.

• Developing the no-build alternative to serve as a baseline for comparison.

• Describing and evaluating the potential environmental impacts and mitigation strategies associated with the reasonable route alternatives.

• Identifying component projects for Tier Two NEPA evaluation as described below.

The Tier Two assessment(s) would address component projects of the overall rail corridor alternative selected in the Tier One EIS, and would incorporate by reference the data and evaluations included in the Tier One EIS. Subsequent Tier Two NEPA evaluations would: Concentrate on the site-specific issues and alternatives relevant to implementing component projects of the selected Tier One alternative; and identify the environmental consequences and measures necessary to mitigate environmental impacts at a site-specific level of detail.

Project Background and Study Area: Based upon travel demand and growth between the two regional centers, previous feasibility studies for the proposed Corridor have supported its independent utility to support high speed intercity passenger rail. Currently, between Rochester and the Minneapolis/St. Paul Metropolitan Area (Twin Cities), the proposed Corridor has no existing rail infrastructure south of Dakota County. OCRRA would develop new rail infrastructure with an emphasis on existing public and railroad rights-of-way utilized to the maximum extent feasible and practicable. The Corridor would be planned to be consistent with an eventual high speed intercity passenger rail connection between the Twin Cities and Chicago.

The Minnesota Comprehensive Statewide Freight and Passenger Rail Plan outlines steps that should be taken to accomplish the vision of a robust intrastate and interstate intercity passenger rail system. One of the steps includes developing an intrastate intercity passenger rail network connecting the Twin Cities with viable service to major outlying regional centers. The Corridor was identified as a Phase I corridor in the State Rail Plan for high-speed rail development. Significant growth in Rochester and Olmsted County has occurred over the past 50 years—long after the majority of existing rail corridors in the region had been established. The number of jobs currently supported by Rochester employers exceeds the available adult working population in the urban area, making it an economic driver for an area of roughly 2,300 square miles in southeast Minnesota, northeast Iowa, and western Wisconsin, and impacting employment as far away as the Twin Cities area. Based in Rochester, Mayo Clinic patients and visitors account for nearly 3 million visits per year, with many arriving via the Twin Cities, and travelling via US 52. Rochester also ranks as the fastest growing metropolitan area in the state, with a low unemployment rate and a relatively high per capita and household income compared to other regional centers in Minnesota.

US 52 is the main highway that connects Rochester to the Twin Cities. Further to the west, I-35 is the closest interstate highway. A traveler would need to utilize an east-west route, such as US 14, to access I-35 to make the connection to the Twin Cities. A trip by automobile between the Twin Cities and Rochester is approximately 1 hour and 30 minutes. The proposed Rochester—Twin Cities Passenger Rail service would need to offer intercity travelers a reasonable alternative to automobile travel.

Project Purpose and Need: The purpose of the project is to provide a reliable and safe passenger rail transportation alternative that will meet forecasted population and economic growth mobility demands in the Southeast Minnesota corridor between Rochester and the Twin Cities area. The system is to connect the Twin Cities and Rochester providing convenient and cost effective transportation. The project is being developed to:

• Provide intercity passenger rail service linking the regional economic center of Rochester and the Twin Cities Metropolitan Area economic hub

• Provide options for the growing population and accessibility to population centers

• Improve safety, convenience and time of travel

• Complement the plans of the Midwest Regional Rail Initiative and Minnesota Comprehensive Statewide Freight and Passenger Rail Plan

The need for expanded transportation options in this corridor is based on the following elements:

• Increase in population and employment in Rochester, the Twin Cities Metropolitan Area, and Southeast Minnesota

• Future travel demand

• Limited direct connection opportunities for the Corridor between Rochester and the Twin Cities

The development of world-class and internally recognized medical facilities in Rochester, along with its agribusiness and high-tech industrial base, makes the city a significant economic engine in the north central United States. The Twin Cities, also a base of high-tech industry, and the main transportation hub in the north central states, marks the importance of economic intercourse between these cities. Transportation connecting these cities is primarily based on the private automobile with limited commercial transportation options. The Mayo Clinic in Rochester draws patients and their companions from around the nation and the world, and constitutes a primary need for transportation options not based on the private automobile. There is a growing need for travel, connectivity, and transportation capacity between Rochester and the Twin Cities from current and future economic growth.

Scoping Process: To ensure issues related to this proposal are addressed and any significant impacts identified, comments and suggestions regarding the scope of the Tier One EIS are invited from all interested parties. Comments and suggestions concerning the proposed action and the Tier One EIS should be directed to MnDOT at the addresses above. Letters describing the proposed action and soliciting comments will be sent to the appropriate Federal, State and local agencies, Native American tribes and to private organizations who might have previously expressed or who are known to have an interest in this proposal. Federal agencies with jurisdiction by law or special expertise with respect to potential environmental issues will be invited to act as a Cooperating Agency in accordance with 40 CFR 1501.6.

MnDOT will lead the outreach activities, including public meetings, newsletters, advisory group meetings, a project Web site (www.goziprail.org), public open houses, stakeholder group meetings, and other methods to solicit and incorporate public input throughout the Tier One EIS process. Opportunities for public participation will be announced through the Web site, mailings, notices, advertisements, and press releases.

Issued in Washington, DC, on: May 7, 2013.
Corey Hill,
Director, Passenger and Freight Programs, Federal Railroad Administration.

[FR Doc. 2013-11307 Filed 5-10-13; 8:45 am]

BILLING CODE 4910-06-P